ENVIRONMENTAL PROTECTION AGENCY

40 CFR Part 300

[FRL-7387-6]

National Oil and Hazardous Substances Pollution Contingency Plan; National Priorities List Update

AGENCY: Environmental Protection Agency.

ACTION: Notice of deletion of the Gould Site from the National Priorities List.

SUMMARY: The U.S. Environmental Protection Agency (EPA), Region 10, announces the deletion of the Gould Site which is located in Portland, Oregon, from the National Priorities List (NPL). The NPL is appendix B of 40 CFR part 300 which is the National Oil and Hazardous Substances Pollution Contingency Plan (NCP), which EPA promulgated pursuant to section 105 of the Comprehensive Environmental Response, Compensation, and Liability Act of 1980 (CERCLA), as amended. EPA and the State of Oregon have determined that the Site poses no significant threat to public health or the environment and, therefore, no further remedial measures pursuant to CERCLA are appropriate.

EFFECTIVE DATE: September 30, 2002.

FOR FURTHER INFORMATION CONTACT: Beverly Gaines, EPA Point of Contact, U.S. Environmental Protection Agency, Region 10, 1200 Sixth Avenue, Mail Stop ECL-110, Seattle, WA 98101, (206) 553-1066.

SUPPLEMENTARY INFORMATION: The site to be deleted from the NPL is: Gould Site, Portland, Oregon.

A Notice of Intent to Delete for this site was published in the Federal Register on August 23, 2002 (67 FR 54602). The closing date for comments on the Notice of Intent to Delete was September 23, 2002. EPA received one comment letter. The comment letter received by EPA asked about dioxin contaminants that were injected into the dry wells at the Chipman site adjacent to the Gould Site. The Oregon Department of Environmental Quality (DEQ) is currently conducting an Remedial Investigation/Feasibility Study (RI/FS) at the Rhone Poulenc (formerly Chipman Chemical) site. Contaminant sources, such as dry wells, sumps and drainage pathways were characterized during two large soil sampling events completed in December 2000 and December 2001. DEQ is currently working with Rhone Poulenc to evaluate the risks to human health and the environment from contaminants (including 2,3,7,8-tetrachloro-dibenzo-p-dioxin (dioxin)) released to soil and groundwater. This information will be used to evaluate, design, and implement cleanup activities at the site.

For more information on the status of the Rhone Poulenc investigation, consult the DEQ Web site (http://www.deq.state.or.us/wmc/psrasp/ActiveSites.htm) and query Rhone Poulenc or contact the DEQ project manager, Eric Blischke at (503) 229-5648.

EPA identifies sites that appear to present a significant risk to public health, welfare, or the environment and it maintains the NPL as the list of those sites. Any site deleted from the NPL remains eligible for Fund-financed remedial actions in the unlikely event that conditions at the site warrant such action. Section 300.425(e)(3) of the NCP states that Fund-financed actions may be taken at sites deleted from the NPL. Deletion of a site from the NPL does not affect responsible party liability or impede Agency efforts to recover costs associated with response efforts.

List of Subjects in 40 CFR Part 300

Environmental protection, Air pollution control, Chemicals, Hazardous substances, Hazardous waste, Intergovernmental relations, Penalties, Reporting and recordkeeping requirements, Superfund, Water pollution control, and Water supply.

Dated: September 24, 2002.
Randall F. Smith,
Acting Regional Administrator, Region 10.

1. For the reasons set out in the preamble, 40 CFR part 300 is amended as follows:

PART 300—[AMENDED]

1. The authority citation for part 300 continues to read as follows:

Authority: 42 U.S.C 9601-9657; 33 U.S.C. 1321(c)(2); E.O. 12777, 56 FR 54757, 3 CFR, 1991 Comp., p.351; E.O. 12580, 52 FR 2923, 3 CFR 1987 Comp., p.193.

Appendix B—[Amended]

2. Table 1 of appendix B to part 300 is amended by removing the entry for the “Gould, Inc., Portland, OR.”

[FR Doc. 02-24765 Filed 9-27-02; 8:45 am]

BILLING CODE 6560-50-P